POSTAL SERVICE

39 CFR Part 111

Change in Administrative Charges for Refunds of Unused Meter Stamps and Returned Business Reply Mail Mailpieces With Postage Affixed

AGENCY: Postal Service.

ACTION: Final rule.

SUMMARY: This final rule revises the Domestic Mail Manual (DMM) to update the administrative charges for processing refunds for unused meter stamps and business reply mail (BRM) pieces returned with postage affixed. These charges have not been increased for the past 20 years, and are updated to reflect the current hourly cost for processing the refunds. This final rule also splits the discussion of refunds for unused metered postage and refunds for PC Postage indicia into separate sections.

EFFECTIVE DATE: January 1, 2003.

FOR FURTHER INFORMATION CONTACT: Patricia Bennett (703) 292-3639 or Samuel J. Koroma (703) 292-3990.

SUPPLEMENTARY INFORMATION: On October 15, 2002, the Postal Service published for public comment in the Federal Register a proposed rule (67 FR 63582-63583) to update the administrative charges for processing refunds for unused meter stamps and returned business reply mail (BRM) with postage affixed. The Postal Service also invited comments on the proposed rule from interested parties and accepted comments until November 14, 2002. No comments were received during the comment period. This final rule contains the DMM standards adopted by the Postal Service after the comment period ended.

The Domestic Mail Manual is revised as follows. The changes are incorporated by reference in the Code of Federal Regulations. See CFR part 111.

List of Subjects in 39 CFR Part 111

Administrative practice and procedure, Postal Service.

PART 111—[AMENDED]

1. The authority citation for 39 CFR part 111 continues to read as follows:

Authority: 5 U.S.C. 552(a); 39 U.S.C. 101, 401, 403, 404, 414, 416, 3001, 3011, 3201, 3219, 3403-3406, 3621, 3626, 5001.

2. Revise Domestic Mail Manual (DMM) as set forth below:

Domestic Mail Manual (DMM)

* * * * *

P Postage and Payment Methods

P000 Basic Information

P010 General Standards

* * * * *

P014 Refunds and Exchanges

* * * * *

2.0 POSTAGE AND FEES REFUNDS

* * * * *

[Revise title and text of 2.5 to read as follows:]

2.5 Refunds for Metered Postage, Except for PC Postage Indicia

A refund for complete, legible, and valid unused indicia printed on unmailed envelopes, wrappers, or labels is made under 3.2. The request is submitted as follows:

a. Only the meter licensee may request the refund.

b. The licensee must submit the refund request within 60 days from the dates shown in the indicia.

c. The licensee must submit the request, along with the items bearing the unused postage, to the licensing post office. The request is processed by the Postal Service.

d. Charges for processing a refund request are as follows:

(1) If the total face value of the indicia is $350 or less, the Postal Service charges 10% of the face value.

(2) If the total face value is more than $350, the Postal Service charges $35 per hour, or fraction thereof, for the actual hours to process the refund, with a minimum charge of $35.

[Renumber current 2.6 through 2.11 as 2.7 through 2.12, respectively. Add new 2.6 to read as follows:]

2.6 Refunds for PC Postage

A refund for complete, legible, and valid unused PC Postage indicia printed on unmailed envelopes, wrappers, or labels is made under 3.2. The request is submitted as follows:

a. Only the PC Postage licensee may request the refund.

b. The licensee must submit the refund request within 30 days from the dates shown in the indicia.

c. The licensee must submit the request, along with the items bearing the unused postage, to the system provider. The request is processed by the provider, not the Postal Service.

d. The provider may charge for processing refund requests.

* * * * *

2.9 Applying for Refund

[Revise 2.9 to read as follows:]

Except for refunds for metered postage under 2.5 or for PC Postage indicia under 2.6, the customer must apply for a refund on PS Form 3533; submit it to the postmaster; and provide the envelope, wrapper, or a part of it showing the names and addresses of the sender and addressee, canceled postage and postal markings, or other evidence of postage and fees paid.

2.10 Ruling on Refund Request

Refund requests are decided based on the specific type of postage or mailing:

* * * * *

[Revise item b to read as follows:]

b. PC Postage systems. The system provider grants or denies requests for refunds for indicia printed by PC Postage systems under 2.6 and 3.2, using established Postal Service criteria. For dated PC Postage indicia only, the licensee may appeal a decision through the manager of Postage Technology Management, Postal Service Headquarters. The original meter indicia must be submitted with the appeal. The appeal must be submitted within 30 days of the original decision. The customer may appeal a decision on indicia lacking a date through the postmaster to the RCSC.

* * * * *

2.12 Business Reply Mail

[Revise renumbered 2.12 by replacing “$15” with “$35” to read as follows:]

* * * A charge of $35 per hour, or fraction thereof, is assessed for the workhours used to process the refund. * * *

* * * * *

We will also publish an appropriate amendment to 39 CFR 111.3 to reflect these changes.

Stanley F. Mires,
Chief Counsel, Legislative.

[FR Doc. 02-32181 Filed 12-20-02; 8:45 am]

BILLING CODE 7710-12-P